DEPARTMENT OF TRANSPORTATION

Federal Aviation Administration

14 CFR Part 39

[Docket No. FAA-2014-0771; Directorate Identifier 2014-CE-006-AD]

RIN 2120-AA64

Airworthiness Directives; Beechcraft Corporation Airplanes

AGENCY: Federal Aviation Administration (FAA), DOT.

ACTION: Notice of proposed rulemaking (NPRM).

SUMMARY: We propose to adopt a new airworthiness directive (AD) for certain Beechcraft Corporation Model G58 airplanes. This proposed AD was prompted by reports of fuel leaks due to fuel cells that did not properly fit in Model G58 airplanes. This proposed AD would require inspecting for and replacing, as necessary, certain fuel cells. This proposed AD would also require inspecting and replacing parts, as necessary, of the left and right fuel system installations and correcting torques on fuel system fittings; and prohibit future installations of certain fuel cells. We are proposing this AD to correct the unsafe condition on these products.

DATES: We must receive comments on this proposed AD by November 21, 2014.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this AD, contact Beechcraft Corporation, 2121 South Hoover Road, Wichita, Kansas 67209; telephone: (316) 676-3140; fax: (316) 676-8027; email: Piston_support@txtav.com; Internet: www.beechcraft.com. You may review copies of the referenced service information at the FAA, Small Airplane Directorate, 901 Locust, Kansas City, Missouri 64106. For information on the availability of this material at the FAA, call (816) 329-4148.

Examining the AD Docket

You may examine the AD docket on the Internet at http://www.regulations.gov by searching for and locating Docket No. FAA-2014-0771; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT:

• For information relating to Beechcraft Corporation Model G58 airplanes or part numbers contact: Thomas Teplik, Aerospace Engineer, Wichita Aircraft Certification Office, FAA, 1801 Airport Road, Room 100, Wichita, Kansas 67209; phone: (316) 946-4196; fax: (316) 946-4107; email: thomas.teplik@faa.gov.

• For information relating to Floats and Fuel Cells, Inc. (FFC) parts manufacturer approval (PMA) fuel cells contact: Keith Moore, Atlanta Aircraft Certification Office, FAA, 1701 Columbia Avenue, College Park, Georgia 30337; telephone: (404) 474-5517; fax: (404) 474-5500; email: keith.moore@faa.gov.

SUPPLEMENTARY INFORMATION:

Comments Invited

We invite you to send any written relevant data, views, or arguments about this proposal. Send your comments to an address listed under the ADDRESSES section. Include “Docket No. FAA-2014-0771; Directorate Identifier 2014-CE-006-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We received seven reports of fuel leaks in Beechcraft Corporation Model G58 airplanes. Six fuel leaks were observed before takeoff or after landing. One in-flight fuel leak caused large and rapid loss of fuel and a 24-gallon fuel imbalance.

An investigation found issues that may have occurred on the production line, including fuel cell fit inconsistencies; improper installation of fuel components, which may cause loads on fuel cells and breach of fuel cells; and improper installation of fuel hoses and clamps, which may cause fuel leaks.

Further investigation found discrepancies and variation in the fit of the fuel cell on airplanes produced after December 2011.

These conditions, if not corrected, could result in significant fuel leakage. This could lead to an imbalance condition, which may affect airplane controllability and/or could lead to an airplane fire.

Relevant Service Information

We reviewed Beechcraft Mandatory Service Bulletin SB 28-4127, dated June 2013; and Beechcraft Mandatory Service Bulletin SB 28-4131, dated November 2013. The service information describes procedures for inspection of the left and right fuel system installations and replacement of parts, as necessary; inspection for proper torque on fuel system fittings; and inspection and replacement, as necessary, of fuel cells.

FAA's Determination

We are proposing this AD because we evaluated all the relevant information and determined the unsafe condition described previously is likely to exist or develop in other products of the same type design. This proposed AD will only affect fuel cells installed on airplanes produced after December 2011. This proposed AD would include prohibiting the installation of both Beechcraft fuel cell part numbers produced by FFC and any PMA part numbers on the Model G58 airplanes serial numbers (SNs) TH-2335 through TH-2378, certificated in any category.

We are evaluating the Beechcraft and PMA fuel cells that are installed on airplanes prior to December 2011 for the same or similar condition and may take future rulemaking action for airplanes incorporating these parts.

Proposed AD Requirements

This proposed AD would require accomplishing the actions specified in the service information described previously and prohibit the installation of certain Beechcraft and FFC PMA fuel cells.

Costs of Compliance

We estimate that this proposed AD affects 18 airplanes of U.S. registry.

We estimate the following costs to comply with this proposed AD:

Estimated Costs
Action | Labor cost | Parts cost | Cost per product | Cost on U.S. operators
* Inspection of fuel cells | 12 work-hours × $85 per hour = $1,020 | Not Applicable | $1,020 | $5,100
** Inspection of left and right fuel system installations | 30 work-hours × $85 per hour = $2,550 | Not Applicable | 2,550 | 28,050
*** Inspection for proper torque on fuel system fittings | 4 work-hours × $85 per hour = $340 | Not Applicable | 340 | 2,380
* Applies to the 5 specific serial numbers on the U.S. registry that may have improperly fitting fuel cells installed at production.
** Applies to the 11 specific serial numbers on the U.S. registry that must do Part 1 of the service information.
*** Applies to the 7 specific serial numbers on the U.S. registry, listed in the service information that must do Part 2 of the service information.

We estimate the following costs to do any necessary installations/replacements that would be required based on the results of proposed inspections. We have no way of determining the number of airplanes that might need these installations/replacements:

On-condition Costs
Action | Labor cost | Parts cost | Cost per product
Replacement of left-hand (LH) leading edge (LE) outboard fuel cell | 16 work-hours × $85 per hour = $1,360 | $2,599 (includes fuel cell, $2,545 + clamp/gasket, $54) | $3,959
Replacement of right-hand (RH) LE outboard fuel cell | 16 work-hours × $85 per hour = $1,360 | $2,599 (includes fuel cell, $2,545 + clamp/gasket, $54) | 3,959
Replacement of LH LE inboard fuel cell | 16 work-hours × $85 per hour = $1,360 | $4,264 (includes fuel cell, $4,210 + clamp/gasket, $54) | 5,624
Replacement of RH LE inboard fuel cell | 16 work-hours × $85 per hour = $1,360 | $2,242 (includes fuel cell, $2,188 + clamp/gasket, $54) | 3,602
Replacement of LH center fuel cell | 16 work-hours × $85 per hour = $1,360 | $1,931 (includes fuel cell, $1,877 + clamp/gasket, $54) | 3,291
Replacement of RH center fuel cell | 16 work-hours × $85 per hour = $1,360 | $3,049 (includes fuel cell, $2,995 + clamp/gasket, $54) | 4,409
Replacement of tube assembly, flex hose, and clamps | 10 work-hours × $85 per hour = $850 | $672 (includes LH and RH tube assemblies, flex hoses, and clamps) | 1,522

According to Beechcraft Corporation, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Beechcraft Corporation: Docket No. FAA-2014-0771; Directorate Identifier 2014-CE-006-AD.

(a) Comments Due Date

We must receive comments by November 21, 2014.

(b) Affected ADs

None.

(c) Applicability

This AD applies to Beechcraft Corporation Model G58 airplanes, serial numbers (SNs) TH-2335 through TH-2378, certificated in any category.

(d) Subject

Joint Aircraft System Component (JASC)/Air Transport Association (ATA) of America Code: 28, Fuel.

(e) Unsafe Condition

This AD was prompted by reports of fuel leaks due to fuel cells that did not properly fit in Model G58 airplanes. We are issuing this AD to detect and correct improperly fitting fuel cells. We are also issuing this AD to correct left and right fuel system installations and set correct torque on fuel system fittings for all affected airplanes, which if not corrected, could result in significant fuel leakage. This could lead to an imbalance condition, which may affect airplane controllability, and/or could lead to an airplane fire.

(f) Compliance

Comply with this AD within the compliance times specified in paragraphs (g) and (h), including all subparagraphs, unless already done. All of the actions in paragraphs (g) and (h) must be completed for compliance with this AD. The actions of Beechcraft Mandatory Service Bulletin SB 28-4127, dated June 2013, and Beechcraft Mandatory Service Bulletin SB 28-4131, dated November 2013, have numerous overlapping tasks. Instead of completing the required actions in paragraph (g) and paragraph (h) separately, you may complete the actions of both paragraphs concurrently to avoid repeating the same tasks unnecessarily. We recommend reviewing Appendices 1 through 3 for general guidance and suggestions for task ordering to assist you in not repeating tasks unnecessarily.

(g) Fuel Cell Inspection

(1) For Model G58 airplanes, S/Ns TH-2356 through TH-2378: within the next 100 hours TIS after the effective date of this AD or within the next 12 months after the effective date of this AD, whichever occurs first, inspect the fuel cells (left hand (LH) inboard, outboard, and center; and right hand (RH) inboard, outboard, and center) following Beechcraft Mandatory Service Bulletin SB 28-4131, dated November 2013. If any fuel cell is Beechcraft Corporation P/N 60-921046-5, 60-921046-6, 002-920034-9, 002-920034-10, 58-380003-13, or 58-380003-14; or Floats and Fuel Cells, Inc. (FFC) parts manufacturer approval (PMA) P/N B-2503-9/-10; B-2034-3/-4; or B-2646-3/-4, before further flight, replace the fuel cell(s) with Beechcraft Corporation P/N 60-921046-1, 60-921046-2, 002-920034-1, 002-920034-2, 58-380003-5, or 58-380003-6, as applicable, following Beechcraft Mandatory Service Bulletin SB 28-4131, dated November 2013.

(2) For Model G58 airplanes, S/Ns TH-2335 through TH-2378: as of the effective date of this AD, do not install the following P/Ns:

(i) Beechcraft Corporation P/N 60-921046-5, 60-921046-6, 002-920034-9, 002-920034-10, 58-380003-13, or 58-380003-14; or

(ii) FFC PMA fuel cells P/N B-2503-9/-10, B-2034-3/-4, or B-2646-3/-4.

(h) Fuel System Inspection

Certain Model G58 airplanes, as listed in paragraphs (h)(1), (h)(2), and (h)(3) of this AD, may have incorrect left and right fuel system installations and incorrect torque on fuel system fittings.

(1) For Model G58 airplanes, SNs TH-2335, TH-2338 through TH-2348, TH-2351 through TH-2359, TH-2362 through TH-2366, TH-2369, and TH-2371 that are already in compliance with Part 1 of the Accomplishment Instructions in Beechcraft Mandatory Service Bulletin SB 28-4127, dated June 2013: Within 100 hours TIS after the effective date of this AD or within the next 12 months after the effective date of this AD, whichever occurs first, do the following actions in paragraphs (h)(1)(i) and (h)(1)(ii), including all subparagraphs as applicable:

(i) If any discrepancies are/were found during the inspection of the fuel cell system that required replacement of one of the fuel cells, do the following actions:

(A) Review the airplane maintenance records, Airworthiness Approval Tag (FAA Form 8130-3), or other positive form of parts identification such as a shipping ticket, invoice, or direct ship authority letter, to determine if the replaced fuel cell(s) is P/N 60-921046-5, 60-921046-6, 002-920034-9, 002-920034-10, 58-380003-13, or 58-380003-14; or FFC P/N B-2503-9/-10, B-2034-3/-4, or B-2646-3/-4.

(B) If during the check in paragraph (h)(1)(i)(A) of this AD, you positively identify the replaced fuel cell(s) is not P/N 60-921046-5, 60-921046-6, 002-92003-9, 002-920034-10, 58-380003-13, or 58-380003-14; or FFC P/N B-2503-9/-10, B-2034-3/-4, or B-2646-3/-4, go to the required action in paragraph (h)(1)(ii) of this AD.

(C) If during the check in paragraph (h)(1)(i)(A) of this AD, you positively identify the replaced fuel cell(s) is P/N 60-921046-5, 60-921046-6, 002-920034-9, 002-920034-10, 58-380003-13, 58-380003-14; or FFC P/N B-2503-9/-10, B-2034-3/-4, or B-2646-3/-4, before further flight, replace the fuel cell(s) with Beechcraft Corporation P/N 60-921046-1, 60-921046-2, 002-920034-1, 002-920034-2, 58-380003-5, or 58-380003-6, as applicable, following Beechcraft Mandatory Service Bulletin SB 28-4131, dated November 2013.

(D) If during the check in paragraph (h)(1)(i)(A) of this AD, you cannot positively identify the P/N of the replaced fuel cell(s), within the next 100 hours TIS after the effective date of this AD or within the next 12 months after the effective date of this AD, whichever occurs first, physically inspect each replaced fuel cell to verify the part number. If the replaced fuel cell(s) is P/N 60-921046-5, 60-921046-6, 002-920034-9, 002-920034-10, 58-380003-13, 58-380003-14; or FFC P/N B-2503-9/-10, B-2034-3/-4, or B-2646-3/-4, before further flight, replace the fuel cell(s) with Beechcraft Corporation P/N 60-921046-1, 60-921046-2, 002-920034-1, 002-920034-2, 58-380003-5, or 58-380003-6, as applicable, following Beechcraft Mandatory Service Bulletin SB 28-4131, dated November 2013.

(ii) Gain access to the wet wing interconnect tube P/N 60-921047-1 following Part 1 of the Accomplishment Instructions in Beechcraft Mandatory Service Bulletin SB 28-4127, dated June 2013. Verify wet wing interconnect tube P/N 60-921047-1 is installed in leading edge outboard fuel cell with correct clamp P/N 52KS3 or P/N 4852SS305 and the clamp is torqued to 20 to 25 inch pounds.

Note 1 to paragraphs (h)(1)(ii) and (h)(2)(iii): The correct clamp part number and correct torque for installing the wet wing interconnect tube were inadvertently omitted from Beechcraft Mandatory Service Bulletin SB 28-4127, dated June 2013, when it was issued.

(A) If you can positively identify the wet wing interconnect tube is installed with the correct clamp and the correct torque value during the inspection required in paragraph (h)(1)(ii) of this AD, return airplane to service and perform leak check following Part 1 of the Accomplishment Instructions in Beechcraft Mandatory Service Bulletin SB 28-4127, dated June 2013.

(B) If you cannot positively identify the wet wing interconnect tube is installed with the correct clamp and/or the correct torque value during the inspection required in paragraph (h)(1)(ii) of this AD, before further flight, replace the clamp with P/N 52KS3 or P/N 4852SS305 and/or correct the clamp torque to 20 to 25 inch pounds. Return airplane to service and do a leak check following Part 1 of the Accomplishment Instructions in Beechcraft Mandatory Service Bulletin SB 28-4127, dated June 2013.

(2) For Model G58 airplanes, SNs TH-2335, TH-2338 through TH-2348, TH-2351 through TH-2359, TH-2362 through TH-2366, TH-2369, and TH-2371 that are not in compliance with Part 1 of the Accomplishment Instructions in Beechcraft Mandatory Service Bulletin SB 28-4127, dated June 2013: Within 100 hours TIS after the effective date of this AD or within the next 12 months after the effective date of this AD, whichever occurs first, do the following actions in paragraphs (h)(2)(i) through (h)(2)(iii) of this AD, including all subparagraphs.

(i) Inspect the fuel cell system following Part 1 of the Accomplishment Instructions in Beechcraft Mandatory Service Bulletin SB 28-4127, dated June 2013.

(ii) If any discrepancies are found in the inspection required in paragraph (h)(2)(i) of this AD, before further flight, replace/correct those discrepancies following Part 1 of the Accomplishment Instructions in Beechcraft Mandatory Service Bulletin SB 28-4127, dated June 2013. If the corrective action requires replacement of one of the fuel cells, replace the fuel cell with Beechcraft Corporation P/N 60-921046-1, 60-921046-2, 002-920034-1, 002-920034-2, 58-380003-5, or 58-380003-6, as applicable.

(iii) During the inspection required in paragraph (h)(2)(i) of this AD, ensure that wet wing interconnect tube P/N 60-921047-1 is installed in the leading edge outboard fuel cell with clamp P/N 52KS3 or P/N 4852SS305 and the clamp is torqued to 20 to 25 inch pounds.

(A) If you can positively identify the wet wing interconnect tube is installed with the correct clamp and the correct torque value during the inspection required in paragraph (h)(2)(iii) of this AD, return airplane to service and perform leak check following Part 1 of the Accomplishment Instructions in Beechcraft Mandatory Service Bulletin SB 28-4127, dated June 2013.

(B) If you cannot positively identify the wet wing interconnect tube is installed with the correct clamp and/or the correct torque value during the inspection required in paragraph (h)(2)(iii) of this AD, before further flight, replace the clamp with P/N 52KS3 or P/N 4852SS305 and/or correct the clamp torque to 20 to 25 inch pounds. Return airplane to service and do leak check following Part 1 of the Accomplishment Instructions in Beechcraft Mandatory Service Bulletin SB 28-4127, dated June 2013.

(3) For Model G58 airplanes SNs TH-2336, TH-2337, TH-2349, TH-2350, TH-2360, TH-2361, TH-2367, TH-2368, TH-2370, TH-2372, and TH-2373: Within 100 hours TIS after the effective date of this AD or within the next 12 months after the effective date of this AD, whichever occurs first, inspect the fuel system following Part 2 of the Accomplishment Instructions in Beechcraft Mandatory Service Bulletin SB 28-4127, dated June 2013. If any discrepancies are found, before further flight, replace/correct those discrepancies following Part 2 of the Accomplishment Instructions in Beechcraft Mandatory Service Bulletin SB 28-4127, dated June 2013.

(i) Special Flight Permit

Special flight permits are permitted in accordance with 14 CFR 39.23 provided the following limitation is adhered to: One flight to a repair facility.

(j) Alternative Methods of Compliance (AMOCs)

(1) The Manager, Wichita Aircraft Certification Office (ACO) (for the Beechcraft parts), FAA, or the Manager, Atlanta ACO (for the FFC PMA parts), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (k) of this AD.

(2) Before using any approved AMOC, notify your appropriate principal inspector, or lacking a principal inspector, the manager of the local flight standards district office/certificate holding district office.

(k) Related Information

(1) For information relating to Beechcraft Corporation Model G58 airplanes or part numbers contact: Thomas Teplik, Aerospace Engineer, Wichita ACO, FAA, 1801 Airport Road, Room 100, Wichita, Kansas 67209; phone: (316) 946-4196; fax: (316) 946-4107; email: thomas.teplik@faa.gov.

(2) For information relating to FFC PMA fuel cells contact: Keith Moore, Atlanta ACO, FAA, 1701 Columbia Avenue, College Park, Georgia 30337; telephone: (404) 474-5517; fax: (404) 474-5500; email: keith.moore@faa.gov.

(3) For service information identified in this AD, contact Beechcraft Corporation, 2121 South Hoover Road, Wichita, Kansas 67209; telephone: (316) 676-3140; fax: (316) 676-8027; email: Piston_support@txtav.com; Internet: www.beechcraft.com. You may review copies of the referenced service information at the FAA, Small Airplane Directorate, 901 Locust, Kansas City, Missouri 64106. For information on the availability of this material at the FAA, call (816) 329-4148.

Appendix 1 to AD 2014* * *

For Model G58 airplanes serial numbers TH-2356 through TH-2359, TH-2362 through TH-2366, TH-2369, and TH-2371 that have already completed Beechcraft Mandatory Service Bulletin SB 28-4131, dated November 2013, but have not completed Part 1 of Beechcraft Mandatory Service Bulletin SB 28-4127, dated June 2013.

The information in the appendix cannot be used for direct compliance with the AD. All of the actions in paragraphs (g) and (h) of this AD must be completed for compliance with this AD. The following is a suggested order of tasks that may assist the mechanic in completing overlapping tasks associated with Beechcraft Mandatory Service Bulletin SB 28-4131, dated November 2013, and Part 1 of Beechcraft Mandatory Service Bulletin SB 28-4127, dated June 2013.

Suggested Order of Tasks

1. Do steps (1) through (6) and (6)(a) through (6)(d) (Outboard Wet Wing Interconnect Area) of Part 1 of the Accomplishment Instructions in Beechcraft Mandatory Service Bulletin SB 28-4127. Ensure that wet wing interconnect tube part number (P/N) 60-921047-1 is installed in the leading edge outboard fuel cell with the correct clamp P/N 52KS3 or P/N 4852SS305 and the clamp is correctly torqued to 20 to 25 inch pounds. Note: For step (6)(d) of Part 1 of the Accomplishment Instructions in Beechcraft Mandatory Service Bulletin SB 28-4127, the access panels may need to be removed again for additional tasks listed below.

2. For any fuel cells that were not replaced while doing Beechcraft Mandatory Service Bulletin SB 28-4131, inspect by doing step (7) (Inspection at Three Fuel Cells) of Part 1 of the Accomplishment Instructions in Beechcraft Mandatory Service Bulletin SB 28-4127.

3. If any of the fuel cells are found damaged or leaking during the inspection, replace with fuel cells listed in Beechcraft Mandatory Service Bulletin SB 28-4131.

4. Do steps (8) through (25) (Inspection of Wheel Well and Nacelle Area) of Part 1 of the Accomplishment Instructions in Beechcraft Mandatory Service Bulletin SB 28-4127.

Appendix 2 to AD 2014* * *

For Model G58 airplanes serial numbers TH-2356 through TH-2359, TH-2362 through TH-2366, TH-2369, and TH-2371 that have not completed Beechcraft Mandatory Service Bulletin SB 28-4131, dated November 2013, and have not completed Part 1 of Beechcraft Mandatory Service Bulletin SB 28-4127, dated June 2013.

The information in the appendix cannot be used for direct compliance with the AD. All of the actions in paragraphs (g) and (h) of this AD must be completed for compliance with this AD. The following is a suggested order of tasks that may assist the mechanic in completing overlapping tasks associated with Beechcraft Mandatory Service Bulletin SB 28-4131, dated November 2013, and Part 1 of Beechcraft Mandatory Service Bulletin SB 28-4127, dated June 2013.

Suggested Order of Tasks

1. Do steps (1)(a) through (1)(e) of the Accomplishment Instructions in Beechcraft Mandatory Service Bulletin SB 28-4131.

2. Do steps (6) and (6)(a) through (6)(d) (Outboard Wet Wing Interconnect Area) of Part 1 of the Accomplishment Instructions in Beechcraft Mandatory Service Bulletin SB 28-4127. Ensure that wet wing interconnect tube part number (P/N) 60-921047-1 is installed in the leading edge outboard fuel cell with the correct clamp P/N 52KS3 or P/N 4852SS305 and the clamp is correctly torqued to 20 to 25 inch pounds.

Note: For step (6)(d) of Part 1 of the Accomplishment Instructions in Beechcraft Mandatory Service Bulletin SB 28-4127, the access panels may need to be removed again for additional tasks listed below.

3. Do step (1)(f) of the Accomplishment Instructions in Beechcraft Mandatory Service Bulletin SB 28-4131.

4. If it has been determined by doing step 1(f) of Beechcraft Mandatory Service Bulletin SB 28-4131, that any of the following correct fuel cells P/Ns 60-921046-1, 60-921046-2, 002-920034-1, 002-920034-2, 58-380003-5, or 58-380003-6 are installed in the airplane, do steps (7)(a) through (7)(c) (Inspection at Three Fuel Cells) of Part 1 of the Accomplishment Instructions in Beechcraft Mandatory Service Bulletin SB 28-4127. These steps ensure P/Ns 60-921046-1, 60-921046-2, 002-920034-1, 002-920034-2, 58-380003-5, or 58-380003-6 is properly installed.

5. If it has been determined by doing step 1(f) of Beechcraft Mandatory Service Bulletin SB 28-4131, that any of the following fuel cell P/Ns 60-921046-5, 60-921046-6, 002-920034-9, 002-920034-10, 58-380003-13, or 58-380003-14 or PMA part numbers B-2503-9/-10, B-2034-3/-4, or B-2646-3/-4 are installed in the airplane, do steps (2) through (5) of the Accomplishment Instructions in Beechcraft Mandatory Service Bulletin SB 28-4131. These steps ensure improperly fitting fuel cells are removed from the airplane. Do steps (7)(a) through (7)(c) (Inspection at Three Fuel Cells) of Part 1 of the Accomplishment Instructions in Beechcraft Mandatory Service Bulletin SB 28-4127. For any fuel cell that need replacing, replace with fuel cells listed in Beechcraft Mandatory Service Bulletin SB 28-4131.

6. Do step (7)(d) of Part 1 of the Accomplishment Instructions in Beechcraft Mandatory Service Bulletin SB 28-4127. This step can be done concurrently with step (5) of the Accomplishment Instructions in Beechcraft Mandatory Service Bulletin SB 28-4131.

7. Do steps (8) through (25) (Wheel Well and Nacelle Area and Final Check) of Part 1 of the Accomplishment Instructions in Beechcraft Mandatory Service Bulletin SB 28-4127.

8. Do steps (6) through (10) of the Accomplishment Instructions in Beechcraft Mandatory Service Bulletin SB 28-4131.

Note: Steps (21), (24), and (25) from task 7 and steps (8), (9), and (10) from task 8 can be done concurrently.

Appendix 3 to AD 2014* * *

For Model G58 airplanes serial numbers TH-2360, TH-2361, TH-2367, TH-2368, TH-2370, TH-2372, and TH-2373 that have not completed Beechcraft Mandatory Service Bulletin SB 28-4131, dated November 2013 and have not completed Part 2 of Beechcraft Mandatory Service Bulletin SB 28-4127, dated June 2013.

The information in the appendix cannot be used for direct compliance with the AD. All of the actions in paragraphs (g) and (h) of this AD must be completed for compliance with this AD. The following is a suggested order of tasks that may assist the mechanic in completing overlapping tasks associated with Beechcraft Mandatory Service Bulletin SB 28-4131, dated November 2013, and Part 2 of Beechcraft Mandatory Service Bulletin SB 28-4127, dated June 2013.

Suggested Order of Tasks

1. Do steps (1) through (5) of the Accomplishment Instructions in Beechcraft Mandatory Service Bulletin SB 28-4131.

2. Do steps (7) and (8) of the Accomplishment Instructions in Beechcraft Mandatory Service Bulletin SB 28-4131.

3. Do steps (1) through (6) of Part 2 of the Accomplishment Instructions in Beechcraft Mandatory Service Bulletin SB 28-4127. For step (2), heat shields should have been previously removed for Beechcraft Mandatory Service Bulletin SB 28-4131.

4. Do steps (7) through (11) of Part 2 of the Accomplishment Instructions in Beechcraft Mandatory Service Bulletin SB 28-4127.

5. Do steps (6), (9), and (10) of the Accomplishment Instructions in Beechcraft Mandatory Service Bulletin SB 28-4131.

Note: Steps (9) and (10) from task 5 and steps (10), and (11) from task 4 can be done concurrently.

Issued in Kansas City, Missouri, on September 30, 2014.
Earl Lawrence,
Manager, Small Airplane Directorate, Aircraft Certification Service.

[FR Doc. 2014-23879 Filed 10-6-14; 8:45 am]

BILLING CODE 4910-13-P